DEPARTMENT OF AGRICULTURE

Animal and Plant Health Inspection Service

[Docket No. APHIS-2024-0014]

Decision To Authorize the Importation of Fresh Hass Avocado From Guatemala Into the United States

AGENCY: Animal and Plant Health Inspection Service, USDA.

ACTION: Notice.

SUMMARY: We are advising the public of our decision to authorize the importation of fresh Hass avocado (Persea americana var. Hass) fruit from Guatemala into the United States. Based on the findings of a pest risk analysis, which we made available to the public for review and comment, we have determined that the application of one or more designated phytosanitary measures will be sufficient to mitigate the risks of introducing or disseminating plant pests or noxious weeds via the importation of fresh Hass avocado fruit from Guatemala.

DATES: The commodity covered by this notice may be authorized for importation after November 8, 2024.

FOR FURTHER INFORMATION CONTACT: Dr. Esther Serrano, Regulatory Policy Specialist, Regulatory Coordination and Compliance, PPQ, APHIS, 4700 River Road, Unit 133, Riverdale, MD 20737; (954) 699-4504.

SUPPLEMENTARY INFORMATION:

Background

Under the regulations in “Subpart L—Fruits and Vegetables” (7 CFR 319.56-1 through 319.56-12, referred to below as the regulations), the Animal and Plant Health Inspection Service (APHIS) of the United States Department of Agriculture (USDA) prohibits or restricts the importation of fruits and vegetables into the United States from certain parts of the world to prevent the introduction and dissemination of plant pests.

Section 319.56-4 contains a performance-based process for approving the importation of fruits and vegetables that, based on the findings of a pest risk analysis (PRA), can be safely imported subject to one or more of the five designated phytosanitary measures listed in paragraph (b) of that section. Under that process, APHIS proposes to authorize the importation of a fruit or vegetable into the United States if, based on findings of a PRA, we determine that the measures can mitigate the plant pest risk associated with the importation of that fruit or vegetable. APHIS then publishes a notice in the Federal Register announcing the availability of the PRA that evaluates the risks associated with the importation of a particular fruit or vegetable. Following the close of the 60-day comment period, APHIS will issue a subsequent Federal Register notice announcing whether or not we will authorize the importation of the fruit or vegetable subject to the phytosanitary measures specified in the notice.

In accordance with that process, on March 27, 2024, APHIS published a notice ¹ in the Federal Register (89 FR 21233-21234, Docket No. APHIS-2024-0014) in which we announced the availability, for review and comment, of a PRA that evaluated the risks associated with the importation of fresh Hass avocado (Persea americana var. Hass) fruit from Guatemala into the United States. We also made available an economic effects assessment, or EEA, which contextualized the possible economic impacts associated with the notice.

¹ To view the notice, supporting documents, and comments we received, go to https://www.regulations.gov/document/APHIS-2024-0014-0001.

We solicited comments on the notice for 60 days, ending on May 28, 2024. We received 50 comments by that date. The comments were from growers, domestic and Guatemalan grower associations, importers, exporters, a business in the restaurant industry, a restaurant industry association, the national plant protection organization (NPPO) of Guatemala, and private individuals.

The issues raised by the commenters are addressed below.

Multiple comments expressed general concern about pest risk. Commenters were particularly concerned about the risk of introducing Heilipus lauri and Stenoma catenifer.

Our PRA evaluated the risks associated with the importation of fresh Hass avocado fruit from Guatemala into the United States. We determined that the phytosanitary measures of the systems approach outlined in the risk management document (RMD) are sufficient to mitigate the associated pest risks, including Heilipus lauri and Stenoma catenifer. These measures include pest-free places of production, orchard sanitation, packinghouse measures, and commercial consignments, in conjunction with inspection and the issuance of a phytosanitary certificate by the NPPO of Guatemala. The commenters provided no scientific evidence contradicting the conclusions of our pest risk analysis.

Several commenters requested that we conduct an updated physical survey of potential pests in Guatemala.

A physical, biological census (a survey whose intent is to discover a diverse range of taxa in a given geographic area) is not part of our methodology of writing pest risk assessments. The pest risk assessment is based on port-of-entry pest interception data, information from the government of Guatemala, and current scientific literature relevant to pests that are known to feed on Hass avocado and that occur in Guatemala. APHIS is unaware of, and the commenter does not mention, any scientific literature documenting any new pests in Guatemala since the pest risk assessment was developed in 2022. We therefore believe that the pest risk assessment accounts for all known pests relevant to the pathway of avocados from Guatemala.

Multiple comments suggested that we require mandatory quarantine or fumigation for avocados from Guatemala imported into the United States.

APHIS has determined that the systems approach outlined in the RMD, which is based on pest-free places of production, orchard sanitation, packinghouse measures, and commercial consignments, in conjunction with inspection and the issuance of a phytosanitary certificate by the NPPO of Guatemala, will effectively mitigate the pests associated with fresh Hass avocado fruit imports from Guatemala into the United States. The commenters provided no scientifically based evidence contradicting our determinations of the efficacy of the systems approach. Therefore, we disagree that mandatory quarantine or fumigation are necessary for avocados from Guatemala imported under the systems approach.

Multiple comments questioned the efficacy of a systems approach by claiming that, in the past, pests, including those unknown at the time, such as persea mite and avocado thrips, have come to California from Mexico and South America despite the mitigation measures of similar systems approaches being in place.

APHIS has found no evidence to support the contention that persea mite and avocado thrips were introduced to California via the commercial fruit pathway. APHIS has had no recorded interceptions of these pests in commercial shipments at U.S. ports of entry from Central and South America in the past 30 years. We are not aware of any scientific evidence linking persea mite, avocado thrips, or other established avocado pests entering the United States via the commercial avocado pathway from Mexico or other trading partners. The commenters provided no scientifically based evidence to the contrary.

As a signatory to the World Trade Organization's Agreement on Sanitary and Phytosanitary Measures (SPS Agreement), the United States has agreed that any prohibitions it places on the importation of fruits and vegetables will be based on scientific evidence. The purpose of the pest risk assessment is to identify, based on scientific evidence, those pests that are known to feed on Hass avocado and that occur in Guatemala; we cannot address unknown pest risk in the pest risk assessment. That being said, all consignments of avocado fruit from Guatemala will be subject to inspection by U.S. Customs and Border Protection (CBP) at the United States port of entry. If consignments are determined to be infested by quarantine pests, even if the quarantine pest was previously unknown, the consignments will be subject to appropriate remedial measures to address the plant pest risk, and APHIS will evaluate whether remedial measures are warranted for the export program itself. APHIS also continuously monitors foreign countries for quarantine pests. If a previously unknown quarantine pest relevant to the importation of avocados from Guatemala arises in the future, APHIS will reassess the associated pest risk and, if we determine that phytosanitary measures outlined in the RMD would not provide an adequate level of phytosanitary protection, revise the import restrictions accordingly.

One commenter requested that we limit the importation of avocados from Guatemala to the east coast and Midwest regions of the United States.

The pest risk assessment analyzed the pest risk associated with the importation of avocados from Guatemala into the entire United States. We have determined that the systems approach outlined in the RMD will effectively mitigate the quarantine pests associated with fresh Hass avocado fruit imports from Guatemala to the entire United States. Due to this determination, we do not believe that restricting imports to certain parts of the United States is warranted.

Multiple comments expressed concern regarding the ability to trust the NPPO of Guatemala to fulfil its obligations under the RMD. Many of these comments suggested that APHIS provide inspection oversight.

Like the United States, Guatemala is a signatory to the SPS Agreement. As such, it has agreed to respect the phytosanitary measures the United States imposes on the importation of plants and plant products from Guatemala when the United States demonstrates the need to impose these measures in order to protect plant health within the United States. APHIS and the NPPO of Guatemala have previously developed and executed successful bilateral programs for the importation of fruits and vegetables into the United States, such as programs for the importation of mango and tomato fruits. The success of these programs indicates that the NPPO of Guatemala is capable of fulfilling its obligations under such programs.

The systems approach outlined in the RMD will, however, use a “trust but verify” approach to ensure compliance. While the NPPO of Guatemala will be principally responsible for providing oversight, APHIS may monitor activities at critical control points, such as places of production, packinghouses, as well as recordkeeping, as needed. Additionally, all consignments of avocado fruit from Guatemala will be subject to inspection by CBP at the United States port of entry.

If APHIS or the NPPO identify evidence of failure to adhere to the systems approach, corrective action will immediately occur, which includes the possibility of suspending the importation of further avocados under the systems approach until remedial measures acceptable to APHIS are taken. We consider this potential consequence sufficient incentive for the NPPO to monitor the systems approach program in Guatemala.

A commenter stated that the NPPO of Guatemala should explain how it will monitor and audit avocado groves.

The commenter appeared to assume that the NPPO of Guatemala would be solely responsible for establishing the monitoring and auditing protocols for registered avocado groves under the terms of the systems approach. This is incorrect. The RMD requires APHIS and the NPPO of Guatemala to jointly develop an operational workplan (OWP) that further details the activities and responsibilities that the NPPO of Guatemala will carry out to meet the requirements of the systems approach. This OWP will include details of the NPPO's responsibilities regarding monitoring and auditing groves. Moreover, as stated in the RMD, APHIS will also be involved in the implementation, monitoring, and supervising of the systems approach, and may monitor places of production if we deem it necessary.

Several commenters asked for more details about what will be required of pest-free places of production, such as the nature of the surveys required. The commenters noted that our initial RMD indicated that contiguous orchards and properties around registered places of production must be surveyed semiannually for a period of at least 5 years and found to be free of certain listed moth and weevil avocado pests. The commenters stated that “survey semiannually” should be more defined as no less than every 6 months, and that at least one survey should be required within a specified time relative to harvest, such as 1 month prior to harvest, to help understand the pest presence.

While the semiannual surveys will, by definition, be conducted twice yearly, the interval between surveys, as well as the details regarding the surveys, will be contained in the OWP. Reserving such details for the OWP allows APHIS to adapt to operational realities by, e.g., lengthening or shortening the duration between surveys, within the parameters and strictures set forth by the RMD. Thus, APHIS determined that a change to the initial RMD was not warranted to address these comments.

Several commenters asked us to add more detail in the packinghouse inspection requirements in the RMD. The commenters stated that we should define the portion of avocados to be inspected as a specific number of fruit or a percentage of fruit per a clearly defined unit.

The commenters appear to assume an inspection protocol in which a set number per unit is inspected. APHIS will, instead, require biometric sampling of the lots at the packinghouse. Biometric sampling is a statistically validated approach that allows varying rates per unit to be inspected from unit to unit, provided that the overall rate of inspection is sufficient to support pest freedom of the entire lot with a specified confidence level. APHIS frequently uses biometric sampling for inspection protocols within systems approaches. Packinghouse inspection details will be contained in the OWP. Reserving such details for the OWP allows APHIS to adapt to operational realities within the parameters and strictures set forth by the RMD. Thus, APHIS determined that a change to the initial RMD was not warranted to address these comments.

In the initial RMD, we stated that, if the NPPO of Guatemala finds that a place of production or packinghouse is not complying with the requirements of the systems approach, no avocado fruit from the place of production or packinghouse will be eligible for export into the United States until APHIS and the NPPO of Guatemala investigate and implement remedial measures. Several commenters asked us to specifically define these “remedial measures.”

Remedial measures can include cultural, chemical, and mechanical means, such as preharvest application of pesticide or additional sanitation requirements. The measures will depend on the pest in question and the specific instance of noncompliance. More details about possible remedial measures will be included in the OWP, thus, APHIS determined that a change to the initial RMD was not warranted to address this comment.

Our initial RMD proposed that all Hass avocado fruit must be dry-brushed and/or washed and waxed at packinghouse, as this measure was taken into consideration as part of the pathway to determine the pest list and pest ratings described in the pest risk assessment.

One commenter stated that the RMD was unclear as to whether waxing was a mandatory or optional postharvest treatment. Another commenter stated that waxing should not be mandatory, as washing and brushing should be sufficient to mitigate risk.

We agree that waxing should not be mandatory. As noted in the RMD, our intent was to require production practices that were considered in the pest risk assessment as part of the pathway to determine the pest list and pest ratings. However, while the pest risk assessment considered the pathway to include the condition that fresh fruit will be culled and brushed or washed during post-harvest processing, it did not consider the pathway to include the condition of waxing. Because waxing was not considered as part of the pathway in the pest risk assessment, it does not need to be required within the RMD. The revised RMD, which we are publishing alongside this notice, states that all Hass avocado fruit must be dry-brushed and/or washed at the packinghouse.

One commenter asked us whether flowers and leaves were considered “plant debris” that must be removed from places of production, as per requirement #10 in the RMD. The commenter stated that, in a previous OWP, plant debris was limited to fallen fruits and branches eliminated during the pruning process.

The RMD states that all plant litter and fallen Hass avocado fruit must be removed from all places of production to remove potential pest host material. The definition of plant litter and debris in 7 CFR 319.56-2 is “discarded or decaying organic matter; detached leaves, twigs, or stems that do not add commercial value to the product.” APHIS is unsure of what country's OWP the commenter is referencing, but, for the Guatemala Hass avocado program, the intent of requirement #10 is the removal of any discarded or decaying plant material that could harbor target pests, which may include flowers and leaves.

A commenter stated that we should not require culling of fruit with aesthetic defects caused by nutritional and environmental conditions or by physical means.

In the initial RMD, requirement #12 stated that all damaged or blemished Hass avocado fruit must be culled. We agree with the commenter that aesthetic defects do not necessarily constitute a phytosanitary risk. We have therefore revised the RMD to remove the phrase “or blemished” from requirement #12. The revised RMD states that all damaged Hass avocado fruit must be culled. Culling damaged avocado fruit is a mainstay of commercial crop production, and helps ensure pest-free avocado fruit. The RMD uses the word “damage” to describe damage to the fruit caused by the pest species referenced in the pest risk assessment.

Several comments expressed concern about and requested that we address the prospect of illegal deforestation connected with imports of avocados from Guatemala. One of these comments cited a letter signed by several Senators regarding purported problems with avocado production in Mexico. Two comments suggested that the RMD include provisions for Guatemalan orchards to follow Guatemalan environmental and labor law.

As a signatory to the SPS Agreement, the United States has agreed that any prohibitions it places on the importation of fruits and vegetables will be based on scientific evidence. The provisions of the RMD are therefore limited to restrictions based on the pest risks identified in the pest risk assessment.

The letter cited by a commenter discusses concerns with avocados produced on illegally deforested land in Mexico. The commenter does not provide evidence indicating that avocados are produced on illegally deforested land in Guatemala.

Two comments expressed discontent with the Hass Avocado Board, with one of these comments suggesting specific reforms.

The Hass Avocado Board is under the oversight of the USDA's Agricultural Marketing Service; APHIS is not involved in this oversight role. We are unable to respond to the commenter's concerns regarding the Hass Avocado Board, as they are not within APHIS' purview and outside of the scope of this notice.

One commenter stated that APHIS did not review the economic ramifications of allowing imports of avocados from Guatemala.

The commenter is incorrect that APHIS did not assess the potential economic impacts on domestic producers and consumers of allowing imports from Guatemala into the United States. The initial notice included an EEA, which explained that this action is not expected to significantly impact the U.S. avocado market or U.S. entities, as the importation of avocado from Guatemala will be in relatively small quantities. APHIS received no comments that warranted a change to the EEA.

Multiple comments expressed concern that increased foreign imports will force domestic growers out of business.

We disagree with the commenters. Assuming that Guatemala imports the entire anticipated 15,552.8 metric tons of avocados into the United States (which is not anticipated until 2030), this would represent only 1.1 percent of the domestic supply of avocados in the United States in 2021/2022. Both the results of our economic models, as well as the fact that this would be a small portion of total domestic avocado supply, suggest that this action would not have a major effect on domestic producers.

One commenter asked us to cap foreign imports of avocados at current levels to mitigate oversupply. Conversely, two commenters stated they supported our proposal because domestic producers alone are unable to meet increasing consumer demand for avocado.

APHIS only has authority to deny market access on the basis of pest and disease risk and not on the basis of competition for domestic suppliers. However, we did do an economic analysis of the likely price effects and found that this action will likely not have a major impact on avocado prices. The quantity is anticipated to account for 1.1 percent of domestic supply, some of which may offset other imports.

While the impacts will likely be small in both directions, we agree that this notice will have an impact on consumers by increasing the supply of avocados.

Therefore, in accordance with the regulations in § 319.56-4(c), we are announcing our decision to authorize the importation into the United States of Hass avocados from Guatemala subject to the conditions listed in the revised RMD that accompanies this final notice.

These conditions will be listed in the ACIR database (available at https://acir.aphis.usda.gov/s/). In addition to these specific measures, Hass avocados from Guatemala will be subject to the general requirements listed in § 319.56-3 that are applicable to the importation of all fruits and vegetables.

Paperwork Reduction Act

In accordance with the Paperwork Reduction Act of 1995 (44 U.S.C. 3501 et seq.), the recordkeeping and burden requirements associated with this action are included under the Office of Management and Budget control number 0579-0049.

E-Government Act Compliance

The Animal and Plant Health Inspection Service is committed to compliance with the E- Government Act to promote the use of the internet and other information technologies, to provide increased opportunities for citizen access to Government information and services, and for other purposes. For information pertinent to E-Government Act compliance related to this notice, please contact Mr. Joseph Moxey, APHIS' Paperwork Reduction Act Coordinator, at (301) 851-2533.

Authority: 7 U.S.C. 1633, 7701-7772, and 7781-7786; 21 U.S.C. 136 and 136a; 7 CFR 2.22, 2.80, and 371.3.

Done in Washington, DC, this 30th day of October 2024.
Michael Watson,
Administrator, Animal and Plant Health Inspection Service.

[FR Doc. 2024-25667 Filed 11-7-24; 8:45 am]

BILLING CODE 3410-34-P